DEPARTMENT OF HOMELAND SECURITY

Coast Guard

33 CFR Part 165

[COTP Morgan City-03-011]

RIN 1625-AA00

Safety Zone; Gulf Intracoastal Waterway, Mile 134 West of the Harvey Locks, Louisa, LA

AGENCY: Coast Guard, DHS.

ACTION: Temporary final rule.

SUMMARY: The Coast Guard is establishing a temporary safety zone 100 feet east and west of the Louisa Bridge on the Gulf Intracoastal Waterway (GIWW), mile 134 West of the Harvey Locks (WHL), extending the entire width of the waterway. This safety zone is needed to protect persons and vessels from the potential safety hazards associated with erecting the north bascule leaf tow section of the new Louisa Bridge. Entry into this zone is prohibited unless specifically authorized by the Captain of the Port Morgan City, or a designated representative.

DATES: This rule is effective from 7 a.m. CDT on January 19, 2004, until 5 p.m. CDT on January 23, 2004.

ADDRESSES: Documents indicated in this preamble as being available in the docket are part of docket [COTP Morgan City-03-011] and are available for inspection or copying at Marine Safety Office Morgan City, 800 David Drive, Morgan City, Louisiana 70380, between 8 a.m. CDT and 4 p.m. CDT, Monday through Friday, except Federal holidays.

FOR FURTHER INFORMATION CONTACT: LT (Lieutenant) Norm Witt, Marine Safety Office Morgan City, at (985) 380-5320.

SUPPLEMENTARY INFORMATION:

Regulatory Information

We did not publish a notice of proposed rulemaking (NPRM) for this regulation. Under 5 U.S.C. 553(b)(B), the Coast Guard finds that good cause exists for not publishing an NPRM, and under 5 U.S.C. 553(d)(3), good cause exists for making this rule effective less than 30 days after publication in the Federal Register. Publishing an NPRM and delaying this rule's effective date would be contrary to public interest since immediate action is needed to protect vessels and mariners from the hazards associated with the construction of the new bridge.

Background and Purpose

The Louisiana Department of Transportation and Development will be erecting the north bascule leaf tow section of the new Louisa Bridge. The bridge will be in the closed-to-navigation position during that time. Vessel traffic must remain 100 feet east or west of the bridge from 7 a.m. to 5 p.m. each day, from January 19-23, 2004, to avoid potential hazards while construction is being conducted. Entry into this zone is prohibited to all vessels unless authorized by the Captain of the Port Morgan City, or a designated representative.

Discussion of Rule

The Coast Guard is establishing a temporary safety zone 100 feet east and west of the Louisa Bridge on the Gulf Intracoastal Waterway (GIWW), mile 134 West of the Harvey Locks (WHL), extending the entire width of the waterway. Entry into this zone is prohibited unless specifically authorized by the Captain of the Port Morgan City, or a designated representative.

This rule is effective from 7 a.m. CDT on January 19, 2004, until 5 p.m. CDT on January 23, 2004. This rule will only be enforced from 7 a.m. until 5 p.m. CDT each day that it is effective. During non-enforcement hours, all traffic will be allowed to transit through the zone. Vessels desiring to transit through the zone during enforcement hours must request permission to do so from the Captain of the Port Morgan City, or a designated representative. The Captain of the Port Morgan City will inform the public via broadcast notice to mariners of the enforcement periods for the safety zone.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

This rule will only be in effect for a short period of time and notifications to the marine community will be made through broadcast notice to mariners. The impacts on routine navigation are expected to be minimal. Although this rule is effective for a period of five days, it will only be enforced for a period of ten hours each day. Vessels desiring to transit through the zone during enforcement hours must request permission to do so from the Captain of the Port Morgan City, or a designated representative. During non-enforcement hours, all traffic will be allowed to transit through the zone.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605 (b) that this rule will not have a significant economic impact on a substantial number of small entities. This rule will affect the following entities, some of which may be small entities: The owners or operators of vessels intending to transit through within 100 feet east or west of the Louisa Bridge, located on the GIWW at mile 134 WHL, from 7 a.m. CDT on January 19, 2004 until 5 p.m. CDT on January 23, 2004. This safety zone will not have a significant economic impact on a substantial number of small entities because this rule will be in effect for only five days, and will only be enforced for a period of 10 hours each day. During non-enforcement hours, all traffic will be allowed to transit through the zone.

If you are a small business entity and are significantly affected by this regulation, please contact LT Norm Witt, Marine Safety Office Morgan City, at (985) 380-5320.

Assistance for Small Entities

Under section 213(a) of the Small Business Regulatory Enforcement Fairness Act of 1996 (Pub. L. 104-121), we offered to assist small entities in understanding the rule so they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children From Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. The Administrator of the Office of Information and Regulatory Affairs has not designated it as significant energy action. Therefore, it does not require a Statement of Energy Effects under Executive Order 13211.

Environment

We have analyzed this rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation because this rule is not expected to result in any significant adverse environmental impact as described in NEPA.

Under figure 2-1, paragraph (34)(g), of the Instruction, an “Environmental Analysis Check List” and a “Categorical Exclusion Determination” are not required for this rule.

List of Subjects in 33 CFR Part 165

Harbors, Marine safety, Navigation (Water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. Add temporary § 165.T08-153 to read as follows: § 165.T08-153 Safety Zone; 100 Feet East and West of the Louisa Bridge, Gulf Intracoastal Waterway, Mile 134 West of the Harvey Locks, Louisa, LA.

(a) Location. The following area is a temporary safety zone: all waters within 100 feet east and west of the Louisa Bridge located on the Gulf Intracoastal Waterway at mile 134 West of the Harvey Locks, Louisa, Louisiana.

(b) Effective Date. This rule is effective from 7 a.m. CDT on January 19, 2004, until 5 p.m. CDT on January 23, 2004.

(c) Periods of Enforcement. The safety zone in this section will be enforced from 7 a.m. until 5 p.m. CDT each day of the effective period.

(d) Regulations. (1) In accordance with the general regulations in § 165.23 of this part, entry into the zone established in this section is prohibited unless authorized by the Captain of the Port Morgan City.

(2) Vessels requiring entry into or passage through the safety zone established in this section must request permission from the Captain of the Port Morgan City, or a designated representative. They may be contacted on VHF Channel 13 or 16, or by telephone at (985) 380-5320.

(3) All persons and vessels shall comply with the instructions of the Captain of the Port Morgan City and designated on-scene U.S. Coast Guard patrol personnel. On-scene U.S. Coast Guard patrol personnel are commissioned, warrant, and petty officers of the U.S. Coast Guard.

Dated: November 17, 2003.
S.P. Garrity,
Captain, U.S. Coast Guard, Captain of the Port Morgan City.

[FR Doc. 03-31893 Filed 12-24-03; 8:45 am]

BILLING CODE 4910-15-P